DEPARTMENT OF THE TREASURY

Alcohol and Tobacco Tax and Trade Bureau

27 CFR Parts 4, 5, and 7

[Notice No. 64; Re: Notice No. 62]

RIN 1513-AB08

Major Food Allergen Labeling for Wines, Distilled Spirits and Malt Beverages

AGENCY: Alcohol and Tobacco Tax and Trade Bureau, Treasury.

ACTION: Notice of proposed rulemaking; extension of comment period.

SUMMARY: In response to industry member requests, the Alcohol and Tobacco Tax and Trade Bureau extends the comment period for Notice No. 62, Major Food Allergen Labeling for Wines, Distilled Spirits and Malt Beverages, a notice of proposed rulemaking published in the Federal Register on July 26, 2006, for an additional 90 days.

DATES: Written comments must be received on or before December 26, 2006.

ADDRESSES: You may send comments to any of the following addresses—

• Director, Regulations and Rulings Division, Alcohol and Tobacco Tax and Trade Bureau, Attn: Notice No. 62, P.O. Box 14412, Washington, DC 20044-4412.

• 202-927-8525 (facsimile).

• nprm@ttb.gov (e-mail).

• http://www.ttb.gov/regulations_laws/all_rulemaking.shtml. An online comment form is posted with this notice on our Web site.

• http://www.regulations.gov. Federal e-rulemaking portal; follow instructions for submitting comments.

You may view copies of this extension notice, Notice No. 62, the petitions, and any comments we receive by appointment at the TTB Information Resource Center, 1310 G Street, NW., Washington, DC 20220. To make an appointment, call 202-927-2400. You may also access copies of this extension notice, Notice No. 62, and the related comments online at http://www.ttb.gov/regulations_laws/all_rulemaking.shtml.

FOR FURTHER INFORMATION CONTACT: Lisa M. Gesser, Regulations and Rulings Division, Alcohol and Tobacco Tax and Trade Bureau, P.O. Box 128, Morganza, MD 20660; telephone (301) 290-1460.

SUPPLEMENTARY INFORMATION: On July 26, 2006, the Alcohol and Tobacco Tax and Trade Bureau (TTB) published Notice No. 62, Major Food Allergen Labeling for Wines, Distilled Spirits and Malt Beverages, in the Federal Register (71 FR 42329). In that notice of proposed rulemaking, TTB requested public comment on the proposed adoption of mandatory labeling standards for major food allergens used in the production of alcohol beverages subject to the labeling requirements of the Federal Alcohol Administration Act. The comment period for Notice No. 62, when published, was scheduled to close on September 25, 2006.

After publication of Notice No. 62, TTB received requests from the Distilled Spirits Council of the United States, the National Association of Beverage Importers, Inc., and Wine Institute to extend the comment period for Notice No. 62 for a period ranging from 60 to 120 days beyond the September 25, 2006, closing date. In support of their extension requests, these organizations note that the comment period of this notice would coincide with habitual August vacations in Europe, where many industry member suppliers reside, and that it would also coincide with the approaching grape harvest in California. Consequently, the three organizations state, many industry members would be unable to focus on the complexities and ramifications of the proposed rule and would not have adequate time to formulate a response to the proposal.

In response to these requests, TTB extends the comment period for Notice No. 62 for an additional 90 days. Therefore, comments on Notice No. 62 are now due on or before December 26, 2006.

Drafting Information: Gabriel J. Hiza of the Regulations and Rulings Division drafted this notice.

Signed: September 14, 2006.
John J. Manfreda,
Administrator.

[FR Doc. 06-7963 Filed 9-19-06; 8:45 am]

BILLING CODE 4810-31-P